DEPARTMENT OF COMMERCE

National Oceanic and Atmospheric Administration

50 CFR Part 679

[Docket No. 010112013-1013-01; I.D. 092801A]

Fisheries of the Exclusive Economic Zone Off Alaska; Sharpchin and Northern Rockfish in the Aleutian Islands Subarea of the Bering Sea and Aleutian Islands Area

AGENCY: National Marine Fisheries Service (NMFS), National Oceanic and Atmospheric Administration (NOAA), Commerce.

ACTION: Fishery closure.

SUMMARY: NMFS closes directed fishing for Atka mackerel in the Aleutian Islands subarea of the Bering Sea and Aleutian Islands management area (BSAI) by vessels using trawl gear not fishing for a Community Development Quota (CDQ). This action is necessary to prevent overfishing of the sharpchin/northern rockfish species group.

DATES: Effective 1200 hrs, Alaska local time (A.l.t.), September 30, 2001, until 2400 hrs, A.l.t., December 31, 2001.

FOR FURTHER INFORMATION CONTACT: Mary Furuness, 907-586-7228.

SUPPLEMENTARY INFORMATION: NMFS manages the groundfish fishery in the BSAI according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and 50 CFR part 679.

The Magnuson-Stevens Fishery Conservation and Management Act requires that conservation and management measures prevent overfishing. The 2001 overfishing level for the sharpchin/northern rockfish species group in the BSAI is established by the Final 2001 Harvest Specifications and Associated Management Measures for the Groundfish Fisheries Off Alaska (66 FR 7276, January 22, 2001 and 66 FR 37167, July 17, 2001) as 9,020 metric tons (mt). The acceptable biological catch (ABC) is established as 6,764 mt and in the Aleutian Islands subarea the non-CDQ total allowable catch (TAC) is established as 5,733 mt. The Administrator, Alaska Region, (Administrator) NMFS estimates that as of September xx, 2001, the non-CDQ TAC of sharpchin/northern rockfish will be caught.

NMFS closed directed fishing for sharpchin/northern rockfish in Final 2001 Harvest Specifications and Associated Management Measures for the Groundfish Fisheries Off Alaska (66 FR 7276, January 22, 2001 and 66 FR 37167, July 17, 2001). Substantial trawl fishing effort was directed at harvesting non-CDQ Atka mackerel in the Aleutian Islands subarea during 2001. This fishery has significant bycatch of sharpchin/northern rockfish, averaging about 120 mt per day during the week ending September 29, 2001. Data from the groundfish observer program also indicates that high bycatch rates of sharpchin/northern rockfish are experienced in the Atka mackerel fishery and range from 15 percent to 40 percent. These high rates are inherent in the directed Atka mackerel fishery and will not be reduced if fishermen were only prohibited from retaining sharpchin/northern rockfish pursuant to § 679.20 (d)(2). If the trawl non-CDQ Atka mackerel fishery were allowed to continue beyond September 30, 2001, the ABC for sharpchin/northern rockfish would be significantly exceeded.

The Administrator has determined, in accordance with § 679.20 (d)(3) that closing the directed fishery for non-CDQ Atka mackerel by vessels using trawl gear is necessary to prevent overfishing of the sharpchin/northern rockfish species group, and is the least restrictive measure to achieve that purpose. Without this directed fishery closure, significant incidental catch of sharpchin/northern rockfish would occur by trawl vessels targeting non-CDQ Atka mackerel.

Maximum retainable bycatch amounts for Atka mackerel may be found in the regulations at § 679.20(e) and (f).

Classification

This action responds to the best available information recently obtained from the fishery. The Assistant Administrator for Fisheries, NOAA, finds that the need to immediately implement this action to prevent overfishing of sharpchin/northern rockfish in the Aleutian Islands subarea of the BSAI constitutes good cause to waive the requirement to provide prior notice opportunity for public comment pursuant to the authority set forth at 5 U.S.C. 553 (b)(3)(B) and 50 CFR 679.20 (b)(3)(iii)(A), as such procedures would be unnecessary and contrary to the public interest. Similarly, the need to implement these measures in a timely fashion to prevent overfishing of sharpchin/northern rockfish in the Aleutian Islands subarea of the BSAI constitutes good cause to find that the effective date of this action cannot be delayed for 30 days. Accordingly, under 5 U.S.C. 553(d), a delay in the effective date is hereby waived.

This action is required by § 679.20 and is exempt from review under Executive Order 12866.

Authority: 16 U.S.C. 1801 et seq.

Dated: September 28, 2001.
Bruce C. Morehead,
Acting Director, Office of Sustainable Fisheries, National Marine Fisheries Service.

[FR Doc. 01-24786 Filed 9-28-01; 4:04 pm]

BILLING CODE 3510-22-S